DEPARTMENT OF ENERGY

DOE/NSF Nuclear Science Advisory Committee

AGENCY: Department of Energy, Office of Science.

ACTION: Notice of renewal.

SUMMARY: Pursuant to Section 14(a)(2)(A) of the Federal Advisory Committee Act (Pub. L. 92-463), and in accordance with Title 41 of the Code of Federal Regulations, Section 102-3.65(a), and following consultation with the Committee Management Secretariat, General Services Administration, notice is hereby given that the DOE/NSF Nuclear Science Advisory Committee (NSAC) will be renewed for a two-year period beginning on September 30, 2011.

The Committee will provide advice to the Director, Office of Science (Department of Energy), and the Assistant Director, Directorate for Mathematical and Physical Sciences (National Science Foundation), on scientific priorities within the field of basic nuclear science research.

Additionally, the renewal of the NSAC has been determined to be essential to conduct business of the Department of Energy and the National Science Foundation and to be in the public interest in connection with the performance of duties imposed upon the Department of Energy, by law and agreement. The Committee will continue to operate in accordance with the provisions of the Federal Advisory Committee Act, and the rules and regulations in implementation of that Act.

FOR FURTHER INFORMATION CONTACT: Dr. Timothy Hallman, Designated Federal Officer, at (301) 903-3613.

Issued at Washington, DC, on September 30, 2011.
Carol A. Matthews,
Committee Management Officer.

[FR Doc. 2011-25888 Filed 10-5-11; 8:45 am]

BILLING CODE 6450-01-P